DEPARTMENT OF AGRICULTURE

Forest Service

Happy Camp/Oak Knoll Ranger District; California; Elk Creek Watershed Project

AGENCY: Forest Service, USDA.

ACTION: Notice of intent to prepare an Environmental Impact Statement.

SUMMARY: The purpose of the Elk Creek Watershed Project is to address the need to manage forest stands to be more resilient to future disturbances, improve water quality to maintain and restore riparian and aquatic habitat, improve terrestrial habitat for northern spotted owl and Roosevelt elk, reduce fuel accumulations, and improve the vigor and prevalence of Karuk cultural resources.

DATES: Comments concerning the scope of the analysis must be received by November 16, 2017. The Draft Environmental Impact Statement is expected June 2018 and the Final Environmental Impact Statement is expected February 2019.

ADDRESSES: Send written comments to P.O. Box 377, Happy Camp, CA 96039. Comments may also be sent via email to jchastain@fs.fed.us, or via facsimile to (530) 493-1796. Submit electronic comments at the Klamath National Forest's project Web page: http://www.fs.fed.us/nepa/fs-usda-pop.php/?project=46553.

FOR FURTHER INFORMATION CONTACT: Dock Chastain, (530) 493-1742, jchastain@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for this project is to:

• Reduce fuel accumulations and create ridgetop fuel breaks to increase options for managing planned and unplanned ignitions;

• Improve water quality to maintain and restore riparian and aquatic habitat;

• Maximize efficiency of system roads and trails that provide public access to the Forest while minimizing resource impacts;

• Manage forest stands to be more resilient to future disturbances and improve terrestrial habitat for northern spotted owl and Roosevelt elk;

• Contribute to local and regional economies by providing forest products and enhancing recreational opportunities; and

• Improve the vigor and prevalence of Karuk cultural resources that were historically present in the planning area.

Proposed Action

The proposed action was designed to meet the purpose and need of the project. The proposed action would treat about 10,550 acres within the 45,992-acre project boundary. Acres by treatment type are described below and do not account for overlap in treatment types (acres receiving multiple treatments may be double counted). Treatment acreages are approximate at this point and may be adjusted and refined following scoping. The proposed action also addresses the existing condition of the National Forest Transportation System (Forest System) by treating legacy sites, changing road maintenance levels, and decommissioning roads. All treatments would manage for improving the health and vigor of hardwood species according to the Klamath National Forest Land and Resource Management Plan (Forest Plan). Riparian Reserves within and adjacent to treatment units would be evaluated on a site-by-site basis for treatment, and would include equipment and treatment exclusion zones.

This project would include the following eight types of vegetation treatments: (1) Commercial thinning; (2) noncommercial thinning; (3) hardwood enhancement; (4) meadow enhancement; (5) fuels reduction adjacent to private property; (6) defensible fuel profile zones; (7) roadside fuels reduction; and (8) underburning. This project would use a travel analysis for recommending management levels of existing Forest System roads and would develop new opportunities for recreation through the addition of new trails.

(1) Commercial Thinning (1,782 acres): Commercial thinning is an intermediate harvest with the objective of reducing stand density primarily to improve growth, enhance forest health, and other resources objectives. Treatment can recover potential mortality while producing merchantable material.

(2) Noncommercial Thinning (1,256 acres): Noncommercial thinning is an intermediate harvest which removes the less desirable trees of any species in a stand of poles or larger trees primarily to improve the composition and quality of the stand.

(3) Hardwood Enhancement (76 acres): Hardwood enhancement would focus on stimulating the growth and available resources for preferred hardwood species according to the Forest Plan.

(4) Meadow Enhancement (18 acres): Meadow enhancement treatments would focus on reducing conifer encroachment by removing conifer seedlings and saplings growing within the meadow footprint.

(5) Fuels reduction Adjacent to Private Property (153 acres): Fuel breaks created to protect private property would extend up to 500 feet adjacent to private property. The fuel treatments would involve cutting and pile burning of ladder fuels: Brush, hardwoods, and conifer trees up to ten inches diameter at breast height.

(6) Defensible Fuel Profile Zone (823 acres): The width of the defensible fuel profile zone would be up to 250 feet on either side of proposed ridge lines. The fuel treatments would involve cutting and pile burning of ladder fuels: Brush, hardwoods, and conifer trees up to ten inches diameter at breast height.

(7) Roadside Fuels Reduction (1,896 acres): The roadside fuel breaks would extend up to 300 feet above and 50 feet below either side of identified Forest System and county roads adjacent to Forest Service lands. The fuel treatments would involve cutting and pile burning of ladder fuels: Brush, hardwoods, and conifer trees up to ten inches diameter at breast height.

(8) Underburning (4,552 acres): Underburn units are intended to be burned at low to moderate intensities to reduce fuel loadings and reduce the risk of catastrophic fire. Travel Analysis—A risk and benefit analysis was conducted for Forest System roads within the East Fork Elk Creek and Lower Elk Creek 6th field watersheds. Road treatments include 22 miles of decommissioning, 15 miles of downgrading maintenance levels, 10 miles of upgrading maintenance levels, and treating associated legacy sites. In addition to Forest System road actions, four miles of non-system roads would be rehabilitated.

This project would also include recreation improvements, including the construction of 4.3 miles of new multi-use trails and up to 13 miles of mountain bike trail.

Connected Actions

Access: Access for this project would be mainly accomplished by use of roads on the National Forest Transportation System. About three miles of temporary roads would be needed to facilitate commercial thinning operations. Most of these temporary roads would occur on existing roadbeds. However, several short new temporary spur roads would also be constructed. Both new and existing temporary roads would be hydrologically stabilized at the end of the project.

Landings: Existing landings would be used where possible. Landing size would be appropriately sized for operational safety. Cable landings would use roads where possible. Cable landings off the road system and ground-based landings would average one acre in size but would not exceed 1.5 acres in size. Both new and existing landings would be hydrologically stabilized at the end of the project.

Responsible Official

Patricia A. Grantham, Klamath National Forest, Forest Supervisor.

Nature of Decision To Be Made

The Forest Service is the lead agency for the project. Based on the result of the NEPA analysis, the Klamath National Forest, Forest Supervisor's Record of Decision regarding the Elk Creek Watershed Project will recommend implementation of one of the following:

(1) The proposed action and mitigations necessary to minimize or avoid adverse impacts;

(2) An alternative to the proposed action and mitigations necessary to minimize or avoid adverse impacts; or

(3) The no-action alternative.

The Record of Decision will also document the consistency of the proposed action or one of the alternatives with the Klamath National Forest Land and Resource Management Plan.

Scoping Process

This notice of intent initiates the scoping process, which guides the development of the Environmental Impact Statement.

It is important that reviewers provide their comments at such times and in such manner that they are useful to the agency's preparation of the Environmental Impact Statement. Therefore, comments should be provided prior to the close of the comment period and should clearly articulate the reviewer's concerns and contentions.

Comments received in response to this solicitation, including names and addresses of those who comment, will be part of the public record for this proposed action. Comments submitted anonymously will be accepted and considered, however.

Dated: September 12, 2017.
Jeanne M. Higgins,
Acting Associate Deputy Chief, National Forest System.

[FR Doc. 2017-21005 Filed 9-29-17; 8:45 am]

BILLING CODE 3411-15-P